Executive Order 13500 of February 5, 2009

Further Amendments to Executive Order 12859, Establishment of the Domestic Policy Council

By the authority vested in me as President by the Constitution and the laws of the United States of America, it is hereby ordered as follows:

Executive Order 12859 of August 16, 1993, as amended, is further amended by making the following revisions in section 2:

(a) striking “(u) Assistant to the President and Director of the Office of National Service;” and inserting in lieu thereof “(u) Senior Advisor and Assistant to the President for Intergovernmental Affairs and Public Liaison;”;

(b) striking “(v) Senior Advisor to the President for Policy Development;” and inserting in lieu thereof “(v) Assistant to the President for Energy and Climate Change;”;

(c) striking “(x) AIDS Policy Coordinator; and” and inserting in lieu thereof “(x) Assistant to the President and Chief Technology Officer;”;

(d) inserting “(y) Chief Executive Officer, Corporation for National and Community Service” and “(z) Director of the Office of Science and Technology Policy; and”; and

(e) relettering the subsequent subsection in section 2 as “(aa)”.

THE WHITE HOUSE,

February 5, 2009.

[FR Doc. E9-3108

Filed 2-10-09; 1:00 pm]

Billing code 3195-W9-P